DEPARTMENT OF HEALTH AND HUMAN SERVICES

National Institutes of Health

Center for Scientific Review; Amended Notice of Meeting

Notice is hereby given of a change in the meeting of the Center for Scientific Review Special Emphasis Panel, RFA-RM-16-005: 2020 Pioneer Award Review, April 1, 2020, 8:00 a.m., to April 3, 2020, 5:00 p.m., The Bethesdan Hotel, Tapestry Collection by Hilton, 8120 Wisconsin Avenue, Bethesda, MD 20814, which was published in the Federal Register on March 09, 2020, 85 FR 13665.

The meeting will be held at National Institutes of Health, 6701 Rockledge Drive, Bethesda, MD 20892. The meeting date and time remain the same. The meeting is closed to the public.

Dated: March 11, 2020.
Ronald J. Livingston, Jr.,
Program Analyst, Office of Federal Advisory Committee Policy.

[FR Doc. 2020-05414 Filed 3-16-20; 8:45 am]

BILLING CODE 4140-01-P